OFFICE OF THE UNITED STATES TRADE REPRESENTATIVE

[Docket Number USTR-2022-0005]

Request for Comments on Proposed U.S.-Taiwan Initiative on 21st-Century Trade

AGENCY: Office of the United States Trade Representative (USTR).

ACTION: Request for comments.

SUMMARY: On June 1, 2022, the United States and Taiwan, under the auspices of the American Institute in Taiwan (AIT) and the Taipei Economic and Cultural Representative Office in the United States (TECRO), respectively, launched the U.S.-Taiwan Initiative on 21st-Century Trade. The purpose of this trade initiative is to develop concrete ways to deepen the trade relationship between the United States and Taiwan, beginning with the two sides working under the auspices of AIT and TECRO to develop a roadmap for negotiations for reaching agreements in several specified trade areas, which are identified below. The Office of the United States Trade Representative (USTR) will lead the U.S. side as AIT's designated representative. Accordingly, USTR is seeking public comments on matters relevant to the specified trade areas, including U.S. interests and priorities, in order to develop negotiating objectives and positions. You can provide comments in writing.

DATES: The deadline for the submission of written comments is July 8, 2022.

ADDRESSES: You should submit written comments through the Federal eRulemaking Portal: https://www.regulations.gov (Regulations.gov). Follow the instructions for submissions in parts II and III below.

FOR FURTHER INFORMATION CONTACT: For procedural questions concerning written comments, please contact Spencer Smith at Spencer.L.Smith2@ustr.eop.gov or (202) 395-2974 in advance of the deadline and before transmitting a comment. Direct all other questions to Jing Jing Zhang, Deputy Director for China Affairs, at Yizhi.Zhang@ustr.eop.gov, or (202) 395-9534.

SUPPLEMENTARY INFORMATION:

I. Background

On June 1, 2022, USTR announced that the United States and Taiwan, under the auspices of AIT and TECRO, had decided to launch the U.S.-Taiwan Initiative on 21st-Century Trade. The purpose of this trade initiative is to develop concrete ways to deepen the trade relationship between the United States and Taiwan, beginning with the two sides working under the auspices of AIT and TECRO to develop an ambitious roadmap for negotiations for reaching one or more agreements with high-standard commitments and economically meaningful outcomes in several specified trade areas, which include:

Trade facilitation. The United States and Taiwan seek to harness best practices with respect to facilitating trade, including accelerated implementation of the WTO's Trade Facilitation Agreement, adopting provisions on digitalization of trade facilitation measures, and ensuring inclusivity in accessing customs procedures. In addition, the two sides intend to explore negotiating provisions on electronic payments, risk management, protection of trader information, and support for small and medium enterprises' (SME) access to technology used for the clearance of goods.

Regulatory practices. The United States and Taiwan hold shared values of good governance and respect for the rule of law and believe in the adoption of provisions supporting sound, transparent regulatory practices, including timely online accessibility to information about regulations and regulatory processes, adequate time for public consultations and consideration of comments, and ensuring that regulatory decisions are based on high quality information, science, and evidence. The two sides would also seek to explore the possibility of provisions on transparency and good governance in services.

Agriculture. The United States and Taiwan intend to explore provisions to facilitate agricultural trade through science and risk-based decision making and through the adoption of sound, transparent regulatory practices.

Anti-corruption. The United States and Taiwan seek to develop strong anti-corruption standards to prevent and combat bribery and corruption. The two sides intend to explore negotiating provisions that preclude the tax deductibility of bribes and establish measures regarding the recovery of proceeds of corruption and the denial of a safe haven for foreign public officials who engage in corruption.

Supporting SMEs in trade. The United States and Taiwan aim to support and enhance U.S.-Taiwan SME trade, by collaborating to identify and overcome barriers to trade for SMEs, focusing on trade facilitation for SMEs, sharing and promoting best practices, and working together on activities to promote and support SMEs, including those owned by under-represented groups and women entrepreneurs, and those in disadvantaged communities.

Harnessing the benefits of digital trade. The United States and Taiwan seek to advance outcomes in digital trade that benefit workers, consumers, and businesses, including SMEs. Both sides believe in building consumer trust in the digital economy, promoting access to information, facilitating use of digital technologies, promoting resilient and secure digital infrastructure, and addressing discriminatory and trade-distortive practices in the digital economy.

Promoting worker-centric trade. The United States and Taiwan aim to work to develop more durable and inclusive trade policies that demonstrate that trade can be a force for good by creating more opportunities for people and promoting gender equity across the United States and Taiwan. The two sides also seek to support the protection of labor rights, including the elimination of forced labor in global supply chains.

Supporting the environment and climate action. The United States and Taiwan seek to deepen their cooperation and joint approaches on trade and the environment, including promoting decarbonizing our economies consistent with COP26 outcomes, exchanging information, and supporting businesses, green jobs, and the growth of low-carbon economies.

Standards. The United States and Taiwan intend to explore provisions consistent with their shared view that the preparation, adoption, and application of standards, technical regulations, and conformity assessment procedures should be non-discriminatory, should not create unnecessary barriers to trade, and should serve legitimate policy objectives. The two sides also recognize the important role that international standards can play in supporting greater regulatory alignment and good regulatory practices and in promoting resilience in trade.

State-owned enterprises. The United States and Taiwan recognize the significant distortions that can occur to international trade and investment from non-market practices of state-owned and state-controlled enterprises as well as government designated monopolies. The two sides seek to develop provisions to create a level playing field for workers and businesses when competing against these entities in the international marketplace, including by ensuring that these entities act in a commercial manner, are regulated impartially, and do not provide or receive trade-distorting non-commercial assistance.

Non-market policies and practices. The United States and Taiwan are market-oriented economies and understand the harm that can be caused by trade partners that deploy non-market policies and practices, which threaten the livelihoods of their people and harm their workers and businesses. We intend to collaborate on ways to address these harmful non-market policies and practices.

The United States will build upon high-standard trade commitments and develop new approaches in trade policy to advance a broad set of worker-centered priorities and promote durable, broad-based economic growth for the United States and Taiwan. At this time, the Administration is not seeking to address tariff barriers.

II. Public Comment

The Trade Policy Staff Committee (TPSC) invites interested parties to submit comments to assist USTR as it develops negotiating objectives and positions for the agreements contemplated by the U.S.-Taiwan Initiative on 21st-Century Trade. In particular, the TPSC invites interested parties to comment on issues that USTR should address in any negotiations, including the following:

1. General negotiating objectives for the contemplated agreements.

2. Customs and trade facilitation issues.

3. Transparency and good regulatory practice issues;

4. Agriculture-related matters.

5. Anti-corruption-related matters.

6. Issues of particular relevance to small and medium-sized enterprises that should be addressed in the negotiations.

7. Digital economy-related matters.

8. Labor-related matters.

9. Environment- and climate-related matters.

10. Matters related to standards, technical regulations, and conformity assessment procedures.

11. Issues related to state-owned enterprises and designated monopolies.

12. Matters related to collaboration to address non-market policies and practices.

13. Other measures or practices that undermine fair market opportunities for U.S. workers, farmers, ranchers, and businesses.

USTR requests small businesses (generally defined by the Small Business Administration as firms with fewer than 500 employees) or organizations representing small business members that submit comments to self-identify as such, so that we may be aware of issues of particular interest to small businesses.

III. Submission Instructions

Persons submitting written comments must do so in English and must identify on the first page of the submission “Comments Regarding U.S.-Taiwan Initiative on 21st-Century Trade.”

The submission deadline is July 6, 2022. USTR strongly encourages commenters to make online submissions, using Regulations.gov. To submit comments via Regulations.gov, enter docket number USTR-2022-0005 on the home page and click `search.' The site will provide a search-results page listing all documents associated with this docket. Find a reference to this notice and click on the link entitled `Comment Now' For further information on using Regulations.gov, please consult the resources provided on the website by clicking on `How to Use This Site' on the left side of the home page.

Regulations.gov allows users to submit comments by filling in a `type comment' field, or by attaching a document using an `upload file' field. USTR prefers that you provide comments in an attached document. USTR prefers submissions in Microsoft Word (.doc) or Adobe Acrobat (.pdf). If you use an application other than those two, please indicate the name of the application in the `type comment' field.

Filers submitting comments containing no business confidential information (BCI) should name their file using the name of the person or entity submitting the comments. For any comments submitted electronically containing BCI, the file name of the business confidential version should begin with the characters `BCI.' Clearly mark any page containing BCI with `BUSINESS CONFIDENTIAL' on the top of that page. Filers of submissions containing BCI also must submit a public version of their comments that USTR will place in the docket for public inspection. The file name of the public version should begin with the character `P.' Follow the `BCI' and `P' with the name of the person or entity submitting the comments.

Please do not attach separate cover letters to electronic submissions; rather, include any information that might appear in a cover letter in the comments themselves. Similarly, to the extent possible, please include any exhibits, annexes, or other attachments in the same file as the submission itself, not as separate files.

As noted, USTR strongly urges that you file comments through Regulations.gov.

You must make any alternative arrangements with Spencer Smith at Spencer.L.Smith2@ustr.eop.gov or (202) 395-2974 before transmitting a comment and in advance of the deadline.

USTR will post comments in the docket for public inspection, except properly designated BCI. You can view comments on the Regulations.gov by entering docket number USTR-2022-0005 in the search field on the home page. General information concerning USTR is available at https://www.ustr.gov.

William Shpiece,
Chair of the Trade Policy Staff Committee, Office of the United States Trade Representative.

[FR Doc. 2022-12248 Filed 6-6-22; 8:45 am]

BILLING CODE 3290-F2-P